DEPARTMENT OF HEALTH AND HUMAN SERVICES

National Institutes of Health

National Cancer Institute Amended; Notice of Meeting

Notice is hereby given of a change in the meeting of the National Cancer Advisory Board, November 28, 2012, 6:30 p.m. to November 29, 2012, 5:00 p.m., National Institutes of Health, Building 31C, Wing C, Conference Room 10, 31 Center Drive, Bethesda, MD 20892 which was published in the Federal Register on October 22, 2012, 77FR64526.

This notice is being amended to add the NCAB ad hoc Subcommittee on Global Cancer Research Meeting on November 28, 2012, 5:00 p.m. to 6:30 p.m. at the Hyatt Regency Bethesda Hotel, Old Georgetown Room, One Metro Center, Bethesda, MD 20814. The NCAB ad hoc Subcommittee on Communications will convene at the same location on November 28, 2012, however, the start and end times have been changed to 7:00 p.m. to 8:30 p.m.

Dated: November 8, 2012.
Melanie J. Gray,
Program Analyst, Office of Federal Advisory Committee Policy.

[FR Doc. 2012-27729 Filed 11-14-12; 8:45 am]

BILLING CODE 4140-01-P